DEPARTMENT OF STATE

[Public Notice 3383]

Culturally Significant Objects Imported for Exhibition Determinations: “Byzantine Art”

DEPARTMENT: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority of October 19, 1999, as amended, I hereby determine that the objects to be included in the exhibition “Byzantine Art” imported from abroad for the temporary exhibition without profit within the United States, are of cultural significance. These objects are imported pursuant to loan agreements with foreign lenders. The loan will be for a period of one year, with the potential for renewal annually, beginning on November 14, 2000 through December 2004. I also determine that the exhibition or display of the exhibit objects at the Metropolitan Museum of Art, New York, NY is in the national interest. Public Notice of these Determinations is ordered to be published in the Federal Register.

FOR FURTHER INFORMATION CONTACT: For further information, including a list of exhibit objects, contact Jacqueline Caldwell, Attorney-Adviser, Office of the Legal Adviser, U.S. Department of State (telephone: 202/619-6982). The address is U.S. Department of State, SA-44; 301-4th Street, SW., Room 700, Washington, DC 20547-0001.

Dated: August 4, 2000.
William B. Bader,
Assistant Secretary for Educational and Cultural Affairs, U.S. Department of State.

[FR Doc. 00-20542 Filed 8-11-00; 8:45 am]

BILLING CODE 4710-08-P